DEPARTMENT OF DEFENSE

Department of the Army

[Docket ID: USA-2012-0008]

Privacy Act of 1974; System of Records

AGENCY: Defense Information Systems Agency, DoD.

ACTION: Notice to Add a New System of Records.

SUMMARY: The Department of the Army proposes to add a new system of records in its inventory of record systems subject to the Privacy Act of 1974 (5 U.S.C. 552a), as amended.

DATES: This proposed action will be effective on June 1, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on April 20, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 27, 2012.
Aaron Siegel,
Alternate OSD Federal Register Liaison Officer, Department of Defense.

A0350-1 ARNG

System name:

Guard University (GuardU).

System location:

National Guard Bureau, Lavern E. Weber National Guard Professional Education Center Command Group, 2502 Omaha Ave., Suite 200, Camp Robinson, North Little Rock, AR 72115-9600.

Categories of individuals covered by the system:

Military members of the Army (Active, National Guard and Reserve Components) and Department of the Army civilian personnel, Department of the Army contractor personnel (Army Knowledge Online (AKO) name and User Identification only).

Categories of records in the system:

Resident and distance learning course and personnel data to include individual's name, scheduling, testing, academic, graduation, and attrition data. It will include Army Knowledge Online (AKO) name and User Identification only.

Authority for maintenance of the system:

10 U.S.C. 3013, Secretary of the Army; and Army Regulation 350-1, Army Training and Leader Development.

Purpose(s):

Guard University (GuardU) provides a web-based content delivery system for Army National Guard training and education. It provides courses to Soldiers worldwide, while monitoring and reporting their progress for instructors and leaders. It supports individual creativity, team collaboration, peer review, instructor-led and self-paced training and education. GuardU provides a learning content management and delivery platform that provides synchronous and asynchronous access to training and education.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Records are stored on electronic storage media.

Retrievability:

Retrieved by AKO name/User Identification (UID).

Safeguards:

The web services are secured through a security key embedded in the web service communication. Attempts to communicate with the web services at Digital Training Management System (DTMS) without the security key will not be processed. The remaining PII (name and email address) is encrypted on tape backups and the key shall be changed periodically for security reasons. Security measures are adequate and the risk to GuardU is minimal. Information is also protected by firewalls, antivirus software and AKO authentication. Records are accessed by users with the appropriate profiles or roles and by persons responsible for servicing the system in performance of their official duties. A risk assessment has been performed and will be made available upon request.

Retention and disposal:

Records are maintained in the current electronic file area until no longer needed for conducting business, but not longer than 6 years after the members separation, then destroyed by erasure from electronic systems.

System manager(s) and address:

Program Manager, U.S. Army National Guard, Training Division, Distributed Learning Branch, 111 South George Mason Drive, Arlington, VA 22204-1382.

Notification procedure:

Individuals seeking to determine whether this system of records contains information about themselves should address written inquiries to the Program Manager, U.S. Army National Guard, Training Division, Distributed Learning Branch, 111 South George Mason Drive, Arlington, VA 22204-1382.

For verification purposes, individuals should provide full name, unit number, rank, military occupational specialty, skill level, and signature.

In addition, the requester must provide a notarized statement or an unsworn declaration made in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking to access records about themselves should address written inquiries to the Program Manager, U.S. Army National Guard, Training Division, Distributed Learning Branch, 111 South George Mason Drive, Arlington, VA 22204-1382.

For verification purposes, individuals should provide full name, unit number, rank, military occupational specialty, skill level, and signature.

In addition, the requester must provide a notarized statement or an unsworn declaration made in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The Army's rules for accessing records, contesting contents; and appealing initial agency determinations are contained in Army Regulation 340-21; 32 CFR part 505; or may be obtained from the system manager.

Record source categories:

From the individual, DoD staff, personnel, training and military course instructors.

Exemptions claimed for the system:

None.

[FR Doc. 2012-10554 Filed 5-1-12; 8:45 am]

BILLING CODE 5001-06-P